DEPARTMENT OF TRANSPORTATION

Federal Highway Administration

Notice of Final Federal Agency Actions on a Proposed New Road Connecting I-65 and U.S. 31W in Kentucky

AGENCY: Federal Highway Administration (FHWA), DOT.

ACTION: Notice of limitation on claims for judicial review of actions by FHWA, Army Corps of Engineers (USACE), DoD, and other Federal agencies.

SUMMARY: This notice announces actions taken by the FHWA that are final within the meaning of 23 U.S.C. 139(l)(1). The actions relate to a proposed highway project: a new connector road from I-65 to US 31W in Warren County, Kentucky [Kentucky Transportation Cabinet (KYTC) Item No. 3-16.00].

DATES: By this notice, the FHWA is advising the public of final agency actions subject to 23 U.S.C. 139(l)(1). A claim seeking judicial review of the Federal agency actions on the highway project will be barred unless the claim is filed on or before October 5, 2010. If the Federal law that authorizes judicial review of a claim provides a time period of less than 180 days for filing such claim, then that shorter time period still applies.

FOR FURTHER INFORMATION CONTACT: For FHWA: Mr. Anthony Goodman, Environmental Specialist, Federal Highway Administration, Kentucky Division; 330 West Broadway, Frankfort, Kentucky, 40601; normal business hours Monday-Friday, 8 a.m.-4:30 p.m. Eastern Standard Time; Phone 502-223-6742, E-mail Anthony.Goodman@dot.gov. For KYTC: Mr. David Waldner, P.E., Director, Division of Environmental Analysis, Kentucky Transportation Cabinet; 200 Mero Street, 5 Floor, Frankfort, Kentucky, 40622; regular business hours Monday-Friday, 8 a.m.-4:30 p.m. Eastern Standard Time; Phone 502-564-5655, E-mail David.Waldner@ky.gov.

SUPPLEMENTARY INFORMATION: Notice is hereby given that the FHWA has taken final agency actions subject to 23 U.S.C. 139(0)(1) by issuing licenses, permits, and approvals for the following highway project in the State of Kentucky: The project [FHWA-KY-EIS-04-2-F, NH65-1(73)] involves the construction of a new road linking I-65 and US 31W, construction of a full interchange with I-65 and a partial interchange with US 68/KY 80, and reconstruction of US 31W as it approaches the intersection of the new corridor. The project, which is approximately 3.8 miles in length, is northeast of the city of Bowling Green, in Warren County. The road will be six lanes with a depressed median from I-65 to US 68/KY 80, and four lanes with a depressed median from US 68/KY 80 to US 31W. The purpose of the project is to meet the existing and future transportation demands including improved access between I-65 and US 31W; and improved roadway capacity and safety conditions.

The actions by the Federal agencies, and the laws under which such actions were taken, are described in the Final Environmental Impact Statement (FEIS) for the project, approved on July 22, 2009 (FHWA) and July 21, 2009 (KYTC); in the FHWA Record of Decision (ROD) issued on March 23, 2010; and in other documents in the FHWA project records. The FEIS, ROD, and other project records are available by contacting FHWA or KYTC at the addresses provided above. The FHWA FEIS and ROD can be viewed and downloaded from the project Web site at [http://www.transportation.ky.gov/d3/I6531w], or viewed at public libraries in the project area.

This notice applies to all Federal agency decisions as of the issuance date of this notice and all laws under which such actions were taken, including but not limited to the following:

1. General: National Environmental Policy Act (NEPA) [42 U.S.C. 4321-4351]; Federal-Aid Highway Act [23 U.S.C. 109 and 23 U.S.C. 128]; Public Hearing [23 U.S.C. 128].

2. Air: Clean Air Act [42 U.S.C. 7401-7671(q)].

3. Wildlife: Endangered Species Act [16 U.S.C. 1531-1544].

4. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469469(c)].

5. Land: Section 4(f) of The Department of Transportation Act: 23 U.S.C. 138, 49 U.S.C. 303; Farmland Protection Policy Act (FPPA) [7 U.S.C. 4201-4209].

6. Social and Economic: Civil Rights Act of 1964 [42 U.S.C. 2000(d)-2000(d)(1)]; Uniform Relocation Assistance and Real Property Acquisition Act of 1970 (42 U.S.C. 4601 et seq., Pub. L. 91-646) as amended by the Uniform Relocation Act Amendments of 1987 (Pub. L. 100-17); Executive Order 12898, Federal Actions to Address Environmental Justice in Minority Populations and Low Income Populations, February 11, 1994.

(Catalog of Federal Domestic Assistance Program Number 20.205, Highway Planning and Construction. The regulations implementing Executive Order 12372 regarding intergovernmental consultation on Federal programs and activities apply to this program.)

Authority: 23 U.S.C. 139(l)(1)

Issued on: April 6, 2010.
Jose Sepulveda,
Division Administrator, FHWA-Kentucky Division.

[FR Doc. 2010-8438 Filed 4-14-10; 8:45 am]

BILLING CODE 4910-RY-M